DEPARTMENT OF COMMERCE

National Oceanic and Atmospheric Administration

RIN 0648-XH045

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Ecosystem-Based Fishery Management (EBFM) Committee on to consider actions affecting New England fisheries in the exclusive economic zone (EEZ). Recommendations from this group will be brought to the full Council for formal consideration and action, if appropriate.

DATES: This meeting will be held on Monday, June 10, 2019 at 10:30 a.m.

ADDRESSES:

Meeting address: The meeting will be held at the DoubleTree by Hilton Portland, 363 Maine Mall Road, South Portland, ME 04106; telephone: (207) 775-6161.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The committee will receive reports from the Plan Development Team (PDT) and develop the following components of the Georges Bank example Fishery Ecosystem Plan (eFEP). This document is being developed for presentation to the Council in September. They will discuss catch monitoring, ecosystem data collection, and research as well as Incentive-based management approaches—PDT progress report only. The committee will also discuss Jurisdiction, Cooperation, Coordination amongst management authorities. Other business may be discussed as necessary.

Although non-emergency issues not contained on this agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency.

Special Accommodations

This meeting is physically accessible to people with disabilities. This meeting will be recorded. Consistent with 16 U.S.C. 1852, a copy of the recording is available upon request. Requests for sign language interpretation or other auxiliary aids should be directed to Thomas A. Nies, Executive Director, at (978) 465-0492, at least 5 days prior to the meeting date.

Authority: 16 U.S.C. 1801 et seq.

Dated: May 21, 2019.
Tracey L. Thompson,
Acting Deputy Director, Office of Sustainable Fisheries, National Marine Fisheries Service.

[FR Doc. 2019-10962 Filed 5-23-19; 8:45 am]

BILLING CODE 3510-22-P